NUCLEAR REGULATORY COMMISSION

[NRC-2015-0099]

Sizing of Large Lead-Acid Storage Batteries

AGENCY: Nuclear Regulatory Commission.

ACTION: Regulatory guide; issuance.

SUMMARY: The U.S. Nuclear Regulatory Commission (NRC) is issuing Revision 1 of Regulatory Guide (RG) 1.212, “Sizing of Large Lead-Acid Storage Batteries.” This RG endorses, with certain clarifications, the Institute of Electrical and Electronic Engineers (IEEE) Standard 485-2010, “IEEE Recommended Practice for Sizing Lead-Acid Batteries for Stationary Applications.” This RG describes methods acceptable to the NRC for complying with the design requirements for vented lead-acid batteries used in stationary applications under full float operation for nuclear power plants.

ADDRESSES: Please refer to Docket ID NRC-2015-0099 when contacting the NRC about the availability of information regarding this document. You may obtain publically-available information related to this document, using the following methods:

• Federal Rulemaking Web site: Go to http://www.regulations.gov and search for Docket ID NRC-2015-0099. Address questions about NRC dockets to Carol Gallagher; telephone: 301-415-3463; email: Carol.Gallagher@nrc.gov. For technical questions, contact the individual(s) listed in the FOR FURTHER INFORMATION CONTACT section of this document.

• NRC's Agencywide Documents Access and Management System (ADAMS): You may obtain publicly-available documents online in the ADAMS Public Document collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. Revision 1 of RG 1.212, is available in ADAMS under Accession No. ML15170A003. The regulatory analysis may be found in ADAMS under Accession No. ML14031A264.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Liliana Ramadan, email, Liliana.Ramadan@nrc.gov, telephone: 301-415-2463: or Mark Orr, email, Mark.Orr@nrc.gov, telephone: 301.415.6003. Both of the Office of Nuclear Regulatory Research, U.S. Nuclear Regulatory Commission, Washington, DC 20555-0001.

SUPPLEMENTARY INFORMATION:

I. Introduction

The NRC is issuing a revision to an existing guide in the NRC's “Regulatory Guide” series. This series was developed to describe and make available to the public information regarding methods that are acceptable to the NRC staff for implementing specific parts of the agency's regulations, techniques that the staff uses in evaluating specific issues or postulated events, and data that the staff needs in its review of applications for permits and licenses. Revision 1 of RG 1.212 was issued with a temporary identification as Draft Regulatory Guide, DG-1311. This RG is being updated to provide guidance to applicants and licensees for defining the direct current load and size of vented lead acid batteries for full float stationary applications to support nuclear power plant operations.

II. Additional Information

DG-1313 was published in the Federal Register on April 20, 2015 (80 FR 21774) for a 60-day public comment period. The public comment period closed on June 19, 2015, and no comments were received.

III. Congressional Review Act

This RG is a rule as defined in the Congressional Review Act (5 U.S.C. 801-808). However, the Office of Management and Budget has not found it to be a major rule as defined in the Congressional Review Act.

IV. Backfitting and Issue Finality

This RG provides guidance to applicants and licensees for defining the direct current load and size of lead-acid batteries needed to supply the defined load for full float stationary applications to support nuclear power plant operations. This RG does not constitute backfitting as defined in § 50.109 of title 10 of the Code of Federal Regulations (10 CFR) (the Backfit Rule), and is not otherwise inconsistent with the issue finality provisions in 10 CFR part 52, “Licenses, Certifications and Approvals for Nuclear Power Plants.” As discussed in the “Implementation” section of the RG, the NRC has no current intention to impose this RG on current holders of part 50 operating licenses or part 52 combined licenses.

This RG may be applied to applications for operating licenses and combined licenses docketed by the NRC as of the date of issuance of the RG, as well as future applications for operating licenses and combined licenses submitted after the issuance of the RG. Such action does not constitute backfitting as defined in 10 CFR 50.109(a)(1) and is not otherwise inconsistent with the applicable issue finality provision in 10 CFR part 52, inasmuch as such applicants or potential applicants, with exceptions not applicable here, are not within the scope of entities protected by the Backfit Rule or the relevant issue finality provisions in part 52.

Dated at Rockville, Maryland, this 20th day of October 2015.
For the Nuclear Regulatory Commission.
Thomas H. Boyce,
Chief, Regulatory Guidance and Generic Issues Branch, Division of Engineering, Office of Nuclear Regulatory Research.

[FR Doc. 2015-27110 Filed 10-23-15; 8:45 am]

BILLING CODE 7590-01-P